DEPARTMENT OF DEFENSE

Office of the Secretary

Submission of OMB Review; Comment Request

ACTION: Notice.

The Department of Defense has submitted to OMB for clearance, the following proposal for collection of information under the provisions of the Paperwork Reduction Act (44 U.S.C. chapter 35).

Title, Associated Form, and OMB Number: Application for Trusteeship; DD Form 2827; OMB Number 0703—[To Be Determined].

Type of Request: New Collection.

Number of Respondents: 50.

Responses per respondent: 1.

Annual Responses: 50.

Average Burden per Response: 15 minutes.

Annual Burden Hours: 13.

Needs and Uses: This form is used by the Defense Finance and Accounting Service (DFAS—Cleveland Center) to appoint a trustee to act on behalf of a member of the uniformed services. The authority for the collection of information is 37 U.S.C. sections 602-604. When members of the uniformed services are declared mentally incompetent, the need arises to have a trustee appointed to act on their behalf with regard to military pay matters. This requirement helps alleviate the opportunity for fraud, waste, and abuse of Government funds and protect member benefits.

Affected Public: Individuals of Households.

Frequency: On Occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: July 13, 2000.
Patricia L. Toppings,
Alternate OSD Federal Register Liaison Officer, Department of Defense.

[FR Doc. 00-18194 Filed 7-18-00; 8:45 am]

BILLING CODE 5001-10-M